DEPARTMENT OF ENERGY

Advanced Liquid Natural Gas (LNG) Onboard Storage Systems

AGENCY: Chicago Operations Office, DOE.

ACTION: Notice of intent to issue a financial assistance solicitation.

SUMMARY: DOE intends to issue a financial assistance solicitation in February 2002 for research and development in the area of Advanced Liquid Natural Gas (LNG) Onboard Storage Systems. The long-term goal is to demonstrate cryogenic tank and pump systems that have commercial potential. The short-term goal is to validate cryogenic pumping design concepts through a laboratory proof-of-concept test program. The scope of work for the solicitation will be in two phases. Phase I activities will involve the “proof of concept” through a validation test program. Tasks under this phase will cover: construction of a test stand; fabrication of test items; component testing; pilot testing of a complete fuel delivery system; redesign and optimization; and prototype testing. Phase II activities will involve tank certification testing and road testing. (Phase II funding will be based on availability of funds, test data, design and market plan.) It is anticipated that these efforts will take place over a twenty-four month period under a cooperative agreement arrangement. One or two cooperative agreements will result from the solicitation. Total Government funding is expected to be approximately $1,000,000.00. Successful applicants are expected to cost-share a minimum of 30% of the project cost. Technical program requirements include (1) low-pressure (15 psig or less) on-board storage, and (2) a no-vent system, both on station refuel and fuel delivery to the engine. It is anticipated that award(s) as a result of the solicitation will be made in July, 2002. It is further anticipated that Phase II funding for this project will be available in the FY 2003 budget.

DATES: The solicitation will be available on DOE's “Industry Interactive Procurement System” (IIPS) Web page located at http://e-center.doe.gov on or about February 15, 2002. Prospective applicants can obtain access to the solicitation from the above Internet address or through the DOE Chicago Operations Office (CH) Internet address at http://www.ch.doe.gov under “current solicitations”. The deadline for the submission of applications will be identified in the solicitation.

ADDRESSES: The solicitation, when issued, will include a narrative statement of work, program requirements, qualification criteria, evaluation criteria, and other information. The solicitation and any subsequent amendments will be published on the above mentioned Internet addresses. All applications must be submitted through IIPS in accordance with the instructions provided in the solicitation.

FOR FURTHER INFORMATION CONTACT: Sharon L. Donaldson, 630/252-0953.

SUPPLEMENTARY INFORMATION: An Advanced LNG Storage System incorporates the use of a fuel pump. LNG fuel pumps are currently being used on high-pressure (3600 psig) direct injected natural gas engines. There are, however, advantages to using LNG pumps for all types of engines, since 25% more natural gas can be stored in a tank when fuel tank saturation pressure is below 15 psig. The lower pressure of the vehicle's storage tank also helps standardize and simplify the operation of the natural gas refueling station. Operating at low pressures can also reduce venting losses and may offer savings in equipment costs. The major obstacle to low-pressure onboard storage is the availability of a highly reliable in-tank LNG pump. DOE, therefore, has interest in an R&D test program that further develops low-pressure onboard LNG pumping capability. Interested parties will be required to address the following program requirements: type of refueling (either single line fill or two line fill); thermal/pressure tank management; fuel weathering; fuel delivery sufficient for a 425-hp engine; cryogenic pump durability and maintenance schedule; tank hold time; redundancy in case of pump failure; business plan; and safety. It is DOE's intent to evaluate submitted designs and business plans, and support the further testing of the most promising approaches. Once released, the solicitation will be available for downloading from the IIPS Internet page. At this Internet site you will also be able to register with IIPS, enabling you to submit an application. If you need technical assistance in registering or for any other IIPS function call the IIPS Help Desk at (800) 683-0751 or E-mail the Help Desk personnel at IIPS HeIpDesk@e-center.doe.gov. The solicitation will only be made available in IIPS, no hard (paper) copies of the solicitation and related documents will be made available.

Issued: Argonne, Illinois on December 26, 2001.
John D. Greenwood,
Assistant Manager for Acquisition and Assistance.

[FR Doc. 02-281 Filed 1-4-02; 8:45 am]

BILLING CODE 6450-01-P